NATIONAL ARCHIVES AND RECORDS ADMINISTRATION

36 CFR Part 1280

RIN 3095-AB33

[Docket NARA-08-0002]

Use of Meeting Rooms and Public Space

AGENCY: National Archives and Records Administration (NARA).

ACTION: Final rule.

SUMMARY: NARA is amending its regulations on public use of the National Archives Building in Washington, DC, for meetings or special events. This rule incorporates changes in available space as a result of the renovation of the National Archives Building by identifying the kinds of space available and procedures for requesting use. NARA also will charge fees for the use of public areas in the National Archives Building in accordance with 44 U.S.C. 2903(b). This rule affects the public.

DATES: Effective Date: July 30, 2008.

FOR FURTHER INFORMATION CONTACT: Jennifer Davis Heaps at 301-837-1850, or fax at 301-837-0319.

SUPPLEMENTARY INFORMATION: On April 4, 2008, NARA published a proposed rule (73 FR 18462) for a 60-day public comment period updating text in the regulations relating to the availability of public spaces in the National Archives Building and the National Archives at College Park, Maryland, for private, non-official use, including meetings and special events.

We notified several listservs and researcher organizations about the proposed rule and its availability on regulations.gov. We also posted a notice about the rule on our Web site, http://www.archives.gov. We received no comments. We are adopting the proposed rule as a final rule without change.

This rule is not a significant regulatory action for the purposes of Executive Order 12866 and has not been reviewed by the Office of Management and Budget. As required by the Regulatory Flexibility Act, I certify that this rule will not have a significant impact on a substantial number of small entities because it affects individuals. This regulation does not have any federalism implications. This rule is not a major rule as defined in 5 U.S.C. Chapter 8, Congressional Review of Agency Rulemaking.

List of Subjects in 36 CFR Part 1280

Archives and records, Federal buildings and facilities.

For the reasons set forth in the preamble, NARA amends part 1280 of title 36, Code of Federal Regulations, as follows:

PART 1280—USE OF NARA FACILITIES

1. The authority citation for part 1280 is revised to read as follows:

Authority: 44 U.S.C. 2102 notes, 2104(a), 2112, 2903

2. Amend § 1280.1 by revising paragraph (a) to read as follows:

§ 1280.1 What is the purpose of this part?

(a) This part tells you what rules you must follow when you use property under the control of the Archivist of the United States (see § 1280.2 of this part).

* * * * *

§ 1280.34 [Amended]

3. Amend § 1280.34 as follows:

a. Remove “Assistant Archivist for Administrative Services” in paragraphs (b) and (c) and add in place “Assistant Archivist for Administration.”

b. Remove “36 CFR 1254.20” in the third sentence of paragraph (b) and add in place “36 CFR 1254.48.”

4. Amend § 1280.46 by revising paragraph (b)(3) to read as follows:

§ 1280.46 What are the rules for filming, photographing, or videotaping on NARA property for personal use?

* * * * *

(b) * * *

(3) You may not film, photograph, or videotape while on the interior steps or ramp leading to the Declaration of Independence, the Constitution, and the Bill of Rights in the Rotunda of the National Archives Building.

5. Amend § 1280.48 by revising paragraph (a) and amending paragraph (f) by revising the first sentence to read as follows:

§ 1280.48 How do I apply to film, photograph, or videotape on NARA property for news purposes?

(a) If you wish to film, photograph, or videotape for news purposes at the National Archives Building (as delineated in § 1280.2(a)), the National Archives at College Park, or the Washington National Records Center, you must request permission from the NARA Public Affairs Officer, 700 Pennsylvania Avenue, NW., Washington, DC 20408-0001. See also § 1280.42(b) for additional permissions relating to the Washington National Records Center.

* * * * *

(f) This section does not apply to you if you have permission to use your own microfilming equipment to film archival records and donated historical materials under the provisions of 36 CFR 1254.90 through 1254.110. * * *

6. Amend § 1280.52 by revising the third sentence of paragraph (a) as follows:

§ 1280.52 What are the rules for filming, photographing, or videotaping on NARA property for news purposes?

* * * * *

(a) * * * If the Public Affairs Officer approves your use of artificial lighting in the Rotunda, NARA will use facsimiles in place of the Declaration of Independence, the Constitution, and the Bill of Rights. * * *

* * * * *

7. Revise § 1280.68 to read as follows:

§ 1280.68 May I use the cafeterias?

Yes, the Charters Café in the National Archives Building is normally open to the public Monday through Friday, 10 a.m. to 4 p.m. and the cafeteria at the National Archives at College Park is open to the public from 8 a.m. to 4 p.m.

8. Revise subpart D to read as follows:

Subpart D—What Rules Apply to Use NARA Public Areas in the Washington, DC, Area?
General
Sec.
1280.70 When does NARA allow non-NARA groups to use the public areas of NARA property?
1280.71 What are the general rules for using NARA property in the Washington, DC, area?
1280.72 What additional rules apply for a NARA approved event?
National Archives Building, Washington, DC
1280.74 What spaces in the National Archives Building are available for use by non-NARA groups and organizations?
1280.76 When are the public areas available for private events in the National Archives Building?
1280.78 Does NARA charge fees for the use of public areas in the National Archives Building?
1280.80 How do I request to use NARA public areas in the National Archives Building?
1280.82 How will NARA handle my request to use public areas in the National Archives Building?
1280.84 May I ask to use the Rotunda?
National Archives at College Park, MD
1280.85 What space in the National Archives at College Park is available for use by non-NARA groups and organizations?
1280.86 When are the public areas available for events in the National Archives at College Park?
1280.87 Does NARA charge fees for the use of public areas in the National Archives at College Park?
1280.88 How do I request to use NARA public areas in the National Archives at College Park?
1280.89 How will NARA handle my request to use public areas in the National Archives at College Park?

Subpart D—What Rules Apply to Use NARA Public Areas in the Washington, DC, Area?

General

§ 1280.70 When does NARA allow non-NARA groups to use the public areas of NARA property?

(a) The primary use of NARA property in the Washington, DC, area (the National Archives Building and the National Archives at College Park), including those areas open to the public, is the conduct of official NARA business, including public programs and other activities conducted in conjunction with government and non-government organizations and the Foundation for the National Archives (“Foundation”). In conducting official business, NARA and its partners use all of the public areas of the Washington, DC, area facilities. There are no public areas in the Washington National Records Center in Suitland, MD.

(b) NARA may permit, under the conditions described in this subpart, the occasional use of certain public areas by other Federal agencies, quasi-Federal agencies, and state, local, and tribal government organizations for official activities. NARA also permits the occasional, non-official use of its public areas by organizations when the activity relates to or furthers NARA's archival, records, or other programs.

§ 1280.71 What are the general rules for using NARA property in the Washington, DC, area?

In addition to the rules listed in Subparts A, B, and C of this part, you must adhere to the following rules when using NARA public spaces:

(a) All use must relate to or further the archival, records, or other activities of NARA. Examples of use that meet this standard include programs that promote research in or the dissemination and use of NARA holdings, including educational programs and materials, the preservation of NARA holdings or the historical records and documentary materials of other institutions, and the use and enjoyment of NARA exhibits.

(b) All use must be consistent with the public perception of NARA as an archival and research institution.

(c) When NARA cohosts an activity with the Foundation or other organizations, NARA must be identified as the cohost in all materials and publicity relating to the activity.

(d) When NARA has authorized your organization to use NARA property, you may not characterize your use of NARA property as an endorsement by NARA of your organization or its activities, or otherwise suggest an official relationship between NARA and your organization.

(e) You are not allowed to charge an admission fee or make any indirect assessment for admission, and you may not otherwise collect money at the event.

(f) You may not use NARA property or permission to use that property to advertise, promote, or sell commercial enterprises, products, or services, or for partisan political, sectarian, or similar purposes.

(g) You may not use NARA property if you or your organization or group engages in discriminatory practices proscribed by the Civil Rights Act of 1964, as amended.

(h) You must not misrepresent your identity to the public nor conduct any activities in a misleading or fraudulent manner.

(i) You must ensure that no Government property is destroyed, displaced, or damaged during your use of NARA public areas. You must take prompt action to replace, return, restore, repair or repay NARA for any damage caused to Government property during the use of NARA facilities.

§ 1280.72 What additional rules apply for a NARA approved event?

(a) Approved applicants must provide support people as needed to register guests, distribute approved literature, name tags, and other material.

(b) We must approve in advance any item that you plan to distribute or display during your use of NARA property, or any notice or advertisement that refers, directly or indirectly, to NARA, the Foundation for the National Archives, or the National Archives Trust Fund, or incorporates any of the seals described in 36 CFR 1200.2.

(c) We must approve in advance any vendor or caterer who will work in NARA facilities. You must comply with all NARA requirements for the use of food and drink at your event.

(d) No food or drink may be present or consumed in areas where original records or historical materials are displayed.

National Archives Building, Washington, DC

§ 1280.74 What spaces in the National Archives Building are available for use by non-NARA groups and organizations?

You may ask to use the following areas in the National Archives Building, Washington, DC:

Area | Capacity
Rotunda Galleries | 250 persons.
William G. McGowan Theater | 290 persons.
Archivist's Reception Room | 125 persons.
Presidential Conference Rooms | 20 to 70 persons.

§ 1280.76 When are the public areas available for private events in the National Archives Building?

Most public areas are available for set-up and use on weekdays from 6 p.m. until 10:30 p.m. during the fall and winter seasons (day after Labor Day through March 14). The areas are available for set-up and use from 7:30 p.m. until 10:30 p.m. in the spring season (March 15 through Labor Day). The areas are not available during weekends or on Federal holidays. A NARA staff member must be present at all times when non-NARA groups use NARA spaces.

§ 1280.78 Does NARA charge fees for the use of public areas in the National Archives Building?

(a) NARA is authorized to charge fees for the occasional, non-official use of its public areas, as well as for services related to such use, including additional cleaning, security, and other staff services. NARA will either exercise this authority directly, or, for activities co-sponsored with the Foundation for the National Archives, as part of your group's arrangements with the Foundation.

(b) We will inform organizations interested in using public spaces in the National Archives Building in advance and in writing of the total estimated cost associated with using the public area of interest. Fees NARA charges are paid to the National Archives Trust Fund.

(c) Federal and quasi-Federal agencies, State, local, and tribal governmental institutions using public space for official government functions pay fees to the National Archives Trust Fund only for the costs for additional cleaning, security, and other staff services NARA provides.

§ 1280.80 How do I request to use NARA public areas in the National Archives Building?

(a) Direct your request to use space to: Special Events Division Director (AI); National Archives and Records Administration, 700 Pennsylvania Avenue, NW., Room G-9, Washington, DC 20408. Request by telephone at 202-357-5164 or by fax at 202-357-5926.

(b) You must submit requests, signed by an authorized official of your organization, to use NARA public areas at least 30 calendar days before the proposed event is to occur.

(c) OMB control number 3095-0043 has been assigned to the information collection contained in this section.

§ 1280.82 How will NARA handle my request to use public areas in the National Archives Building?

(a) When you ask to use property in the National Archives Building, we review your request to:

(1) Ensure that it meets all of the provisions in this subpart;

(2) Determine if the public area you have requested is available on the date and time you have requested;

(3) Evaluate whether your proposed use is appropriate for the requested space; and

(4) Determine the costs of the event.

(b) When we have completed this review, we will notify you of the decision. We may ask for additional information before deciding whether or not to approve your event.

(c) NARA reserves the right to review, reject, or require changes in any material, activity, or caterer you intend to use for the event.

§ 1280.84 May I ask to use the Rotunda?

The Rotunda is primarily used for the public exhibition of the Charters of Freedom and other documents from NARA's holdings. NARA also uses the Rotunda for activities that further its Strategic Plan. Therefore, the use of the Rotunda for private events is not permitted. NARA may, upon application, permit other Federal agencies, quasi-Federal agencies, and State, local, and tribal governments to use the Rotunda for official functions, with NARA as a co-sponsor. Governmental groups that use the Rotunda for official functions must reimburse NARA for the cost of additional cleaning, security, and other staff services.

National Archives at College Park, MD

§ 1280.85 What space in the National Archives at College Park is available for use by non-NARA groups and organizations?

You may ask to use the following areas:

Area | Capacity
Auditorium | 300.
Lecture Rooms | 30 to 70 persons (or up to 300 with all dividers removed).

§ 1280.86 When are the public areas available for events in the National Archives at College Park?

Most areas are available for set-up and use from 8 a.m. until 9:30 p.m., Monday through Friday, and from 9 a.m. until 4:30 p.m. on Saturday. A NARA staff member must be present at all times when the public area is in use. If the space and staff are available, we may approve requests for events held before or after these hours and on Sunday.

§ 1280.87 Does NARA charge fees for the use of public areas in the National Archives at College Park?

NARA may charge a fee under 44 U.S.C. 2903(b) for the use of public areas at the National Archives at College Park. We inform organizations in advance and in writing of the total estimated cost of using the public area. Federal and quasi-Federal agencies, State, local, and tribal governmental institutions using public space for official government functions pay fees to the National Archives Trust Fund only for the costs for additional cleaning, security, and other staff services NARA provides.

§ 1280.88 How do I request to use NARA public areas in the National Archives at College Park?

(a) Direct your request to use space to: Special Events Coordinator (AII); Facilities and Personal Property Management Division; National Archives and Records Administration; 8601 Adelphi Road, College Park, MD 20740-6001. Request by telephone at 301-837-1900, or by fax at 301-837-3237.

(b) You must submit requests for use of NARA public areas at least 30 calendar days before the proposed event is to occur.

(c) OMB control number 3095-0043 has been assigned to the information collection contained in this section.

§ 1280.89 How will NARA handle my request to use public areas in the National Archives at College Park?

(a) When you ask to use public areas at the National Archives at College Park, we will review your request to:

(1) Ensure that it meets all of the provisions in this subpart;

(2) Determine if the room you have requested is available on the date and time you have requested; and

(3) Determine the cost of the event.

(b) When we have completed this review, we will notify you of the decision. We may ask for additional information before deciding whether or not to approve your event.

(c) NARA reserves the right to review, reject, or require changes in any material, activity, or caterer you intend to use for the event.

Dated: June 23, 2008.
Allen Weinstein,
Archivist of the United States.

[FR Doc. E8-14706 Filed 6-27-08; 8:45 am]

BILLING CODE 7515-01-P